GENERAL SERVICES ADMINISTRATION

Office of Communications

Cancellation of an Optional Form by the Office of Personnel Management (OPM)

Correction

In notice document 01-26342 appearing on page 53223 in the issue of Friday, October 19, 2001, make the following correction:

On page 53223, in the first column, in the SUMMARY: section, in the second line, “of” should read “OF”.

[FR Doc. C1-26342 Filed 10-24-01; 8:45 am]

BILLING CODE 1505-01-D

DEPARTMENT OF JUSTICE

Foreign Claims Settlement Commission

45 CFR CH. V

Commission's Structures, Functions, Rules of Procedure, and Responsibilities

Correction

In rule document 01-24399 beginning on page 49844 in the issue of Monday, October 1, 2001, make the following correction:

On page 49857, in the second column, in the fourth complete paragraph, beginning in the seventh line“§ 506.18 Entitlement of survivors to award in case of death of prisoner of war“ should have appeard as a section heading:

§506:18 Entitlement of survivors to award in case of death of prisoner of war. [Corrected]

[FR Doc. C1-24399 Filed 10-24-01; 8:45 am]

BILLING CODE 1505-01-D

DEPARTMENT OF JUSTICE

Drug Enforcement Admnistration

21 CFR Part 1310

[DEA Number 198F1]

RIN 1117-AA57

Control of Red Phosphorus, White Phosphorus and Hypophosphorous Acid (and its salts) as List I Chemicals

Correction

In rule document 01-26013 beginning on page 52670 in the issue of Wednesday, October 17, 2001, make the following correction:

§ 1310.04 [Corrected]

On page 52675, in the first column, in §1310.04, paragraph (1) should be corrected to read as follows:“ * * *”.

[FR Doc. C1-26013 Filed 10-24-01; 8:45 am]

BILLING CODE 1505-01-D

NUCLEAR REGULATORY COMMISSION

10 CFR Part 15

RIN 3150-AG80

Debt Collection Procedures

Correction

In proposed rule document 01-25000 beginning on page 50860 in the issue of Friday, October 5, 2001, make the following correction:

§ 15.21 [Corrected]

On page 50864, in the third column, under §15.21, in paragraph (ii), in the last line, “designed” should read,“designated”.

[FR Doc. C1-25000 Filed 10-24-01; 8:45 am]

BILLING CODE 1505-01-D

SECURITIES AND EXCHANGE COMMISSION

[Release No. 34-44888; File No. SR-NYSE-2001-38]

Self-Regulatory Organizations; Notice of Filing and Order Granting Accelerated Approval of a Proposed Rule Change by the New York Stock Exchange, Inc. Relating to Listing and Trading Ordinary Shares of Deutsche Bank on the Exchange

September 28, 2001.

Correction

In notice document 01-25385 beginning on page 51713 in the issue of Wednesday, October 10, 2001, make the following correction:

On page 51715, in the first column, under

III. Solicitation of Comments

heading, beginning in the second to the last line of that section, “[insert date 21 days from date of publication]” should read, “October 31, 2001”.

[FR Doc. C1-25385 Filed 10-24-01; 8:45 am]

BILLING CODE 1505-01-D

SECURITIES AND EXCHANGE COMMISSION

[Release No. 34-44867; File No. SR-NASD-2001-58]

Self-Regulatory Organizations; Notice of Filing and Immediate Effectiveness of Proposed Rule Change by the National Association of Securities Dealers, Inc. Amending NASD Code of Procedure Rule 9216 and NASD Code of Procedure Rule 9270 To Substitute the Office of Disciplinary Affairs for the Office of General Counsel for Review of Proposed Acceptance, Waivers and Consents, Proposed Minor Rule Violation Letters, and Offers of Settlement

September 27, 2001.

Correction

In notice document 01-24808 beginning on page 50699 in the issue of Thursday, October 4, 2001, make the following corrections:

(1) On page 50700, in the first column, in the sixth line from the bottom, “Subcommittee of the [General Counsel]” should read “Subcommittee or the [General Counsel]”.

(2)On the same page, in the second column, under the

II. Self-Regulatory Organization's Statement of the Purpose of, and Statuatory Basis for, the Proposed Rule Change

heading, in the first paragraph, in the second line “Regulations” should read “Regulation”.

[FR Doc. C1-24808 Filed 10-24-01; 8:45 am]

BILLING CODE 1505-01-D

SECURITIES AND EXCHANGE COMMISSION

[Release No. 34-44921; File No. SR-Phlx-00-70]

Self-Regulatory Organizations; Notice of Filing and Order Granting Accelerated Approval of Proposed Rule Change and Amendment Nos. 1 and 2 by the Philadelphia Stock Exchange, Inc. Relating to TheStreet.com Internet Index

October 11, 2001.

Correction

In notice document 01-26085 beginning on page 52823 in the issue of Wednesday, October 17, 2001, make the following correction:

On page 52823, in the second column, the date line should be as set forth above.

[FR Doc. C1-26085 Filed 10-24-01; 8:45 am]

BILLING CODE 1505-01-D

SECURITIES AND EXCHANGE COMMISSION

[Release No. 34-44391; File No. SR-NASD-2001-72]

Self Regulatory Organizations; Notice of Filing of a Proposed Rule Change by the National Association of Securities Dealers, Inc., Relating to Nasdaq National Market Execution System Fees Charged to Non-Members

Correction

In notice document 01-26401 beginning on page 53276 in the issue of Friday, October 19, 2001, make the following correction:

On page 53276, in the second column, the Release No., File No., and subject title should be as set forth above.

[FR Doc. C1-26401 Filed 10-24-01; 8:45 am]

BILLING CODE 1505-01-D

DEPARTMENT OF TRANSPORTATION

Federal Aviation Administration

14 CFR Part 25

[Docket No. NM175; Special Conditions No. 25-01-01-SC]

Special Conditions: Boeing Model 777-200 Series Airplanes; Overhead Crew Rest Compartment

Correction

In rule document 01-12106 beginning on page 26971 in the issue of Tuesday, May 15, 2001, make the following correction:

On page 26873 in the second column, under

The Special Conditions

heading, in paragraph 1(a)(3), “permitted” should read, “prohibited”.

[FR Doc. C1-12106 Filed 10-24-01; 8:45 am]

BILLING CODE 1505-01-D